NATIONAL CREDIT UNION ADMINISTRATION

Agency Information Collection Activities: Submission to OMB for Revision to a Currently Approved Information Collection; Comment Request

AGENCY: National Credit Union Administration (NCUA).

ACTION: Request for comment.

SUMMARY: The NCUA intends to submit the following information collection to the Office of Management and Budget (OMB) for review and clearance under the Paperwork Reduction Act of 1995 (Pub. L. 104-13, 44 U.S.C. Chapter 35). This information collection is published to obtain comments from the public. NCUA is proposing to add fields to the 5300 Call Report to collect Bank Secrecy Act/Anti-Money Laundering, charitable donations, derivatives and investments to fund employee benefits.

DATES: Comments will be accepted until March 31, 2014.

ADDRESSES: Interested parties are invited to submit written comments to the NCUA Contact and the OMB Reviewer listed below:

NCUA Contact: Tracy Crews, National Credit Union Administration, 1775 Duke Street, Alexandria, Virginia 22314-3428, Fax No. 703-837-2861, Email: OCIOPRA@ncua.gov.

OMB Reviewer: Office of Management and Budget, ATTN: Desk Officer for the National Credit Union Administration, Office of Information and Regulatory Affairs, Washington, DC 20503.

FOR FURTHER INFORMATION CONTACT: Requests for additional information, a copy of the information collection request, or a copy of submitted comments should be directed to Tracy Crews at the National Credit Union Administration, 1775 Duke Street, Alexandria, VA 22314-3428, or at (703) 518-6444.

SUPPLEMENTARY INFORMATION:

I. Abstract and Request for Comments

NCUA is amending the currently approved collection for 3133-0004. Two specific forms are used, NCUA Form 5300 and NCUA Profile Form 4501A, also known as the Call Report and Profile, respectively. Section 741.6 of the NCUA Rules and Regulations requires all federally insured credit unions to submit a Call Report quarterly. 12 CFR 741.6. The information enables NCUA to monitor credit unions whose share accounts are insured by the National Credit Union Share Insurance Fund (NCUSIF). NCUA uses the information collected from these Call Reports to fulfill its mission of supervising credit unions, and the Federal Reserve Board uses the information to monitor and control the nation's money supply and the system of financial institutions. Congress and various state legislatures use this information to monitor, regulate, and control credit unions and financial institutions. The changes made to the Profile and Call Report forms for March 2014 will provide data to assist the National Credit Union Administration in assessing regulatory compliance and financial and operational risks. There is a decrease of 8,290 hours from the last submission (2013). The decrease is a result of an adjustment to the number of credit unions completing the Call Report from 6,864 to an estimated 6,550 for March 2014. This decline is from credit union mergers and liquidations.

The NCUA requests that you send your comments on this collection to the location listed in the addresses section. Your comments should address: (a) The necessity of the information collection for the proper performance of NCUA, including whether the information will have practical utility; (b) the accuracy of our estimate of the burden (hours and cost) of the collection of information, including the validity of the methodology and assumptions used; (c) ways we could enhance the quality, utility, and clarity of the information to be collected; and (d) ways we could minimize the burden of the collection of the information on the respondents such as through the use of automated collection techniques or other forms of information technology. It is NCUA's policy to make all comments available to the public for review.

II. Data

Proposal for the following collection of information:

OMB Number: 3133-0004.

Form Number: NCUA 5300 and NCUA 4501A.

Type of Review: Revision to the currently approved collection.

Title: NCUA Call Report and Profile.

Description: The financial and statistical information is essential to NCUA and state supervisory authorities in carrying out its responsibility for the supervision of federally insured credit unions. The information also enables NCUA to monitor all federally insured credit unions whose share accounts are insured by the NCUSIF.

Respondents: All Federally Insured Credit Unions.

Estimated Number of Respondents/Recordkeepers: 6,550

Estimated Burden Hours per Response: 6.6 hours.

Frequency of Response: Quarterly.

Estimated Total Annual Burden Hours: 172,920.

Estimated Total Annual Cost: $5,360,520.

By the National Credit Union Administration Board on January 17, 2014.
Gerard Poliquin,
Secretary of the Board.

[FR Doc. 2014-01514 Filed 1-27-14; 8:45 am]

BILLING CODE 7535-01-P